DEPARTMENT OF HEALTH AND HUMAN SERVICES

National Institutes of Health

Consensus Development Conference on Diagnosis and Management of Dental Caries Throughout Life

Notice is hereby given of the National Institutes of Health (NIH) Consensus Development Conference on “Diagnosis and Management of Dental Caries Throughout Life,” which will be held March 26-28, 2001, in the NIH's Natcher Conference Center, 9000 Rockville Pike, Bethesda, Maryland, 20892. The conference begins at 8 am on March 26 and 27, and at 9 am on March 28 and is open to the public.

The purpose of the conference is to examine the current state of dental caries detection, management, and prevention so that health care providers and the general public can make informed decisions about this important public health issue.

During the first day-and-a-half of the conference, experts will present the latest research findings on dental caries to an independent, non-Federal consensus development panel. After weighing all of the scientific evidence, the panel will draft a statement that will address the following key questions:

• What are the best methods for detecting early and advanced dental caries [validity and feasibility of traditional methods; validity and feasibility of emerging methods]?

• What are the best indicators for an increased risk of dental caries?

• What are the best methods available for the primary prevention of dental caries initiation throughout life?

• What are the best treatments available for reversing or arresting the progression of early dental caries?

• How should clinical decisions regarding prevention and/or treatment be affected by detection methods and risk assessment?

• What are promising new research directions for the prevention, diagnosis, and treatment of dental carries?

On the final day of the conference, the panel's draft statement will be read in public, at which time members of the public are invited to offer comments on the draft.

The primary sponsors of this meeting are the National Institute of Dental and Craniofacial Research and the NIH office of Medical Applications of Research. Cosponsors include the National Institute on Aging and the U.S. Food and Drug Administration.

This is the 115th Consensus Development Conference held by the NIH in the 24-year history of the Consensus Development Program. Advance information about the conference and conference registration materials may be obtained from Prospect Associates of Silver Spring, Maryland by calling (301) 592-3320 or by email to dentalcaries@prospectassoc.com. Prospect Associates' address is 10720 Columbia Pike, Suite 500, Silver Spring, Maryland 20901-4437. A conference agenda and registration information is also available on the NIH Consensus Program Web site at http://consensus.nih.gov.

Dated: January 13, 2001.
Yvonne T. Maddox,
Acting Deputy Director, NIH.

[FR Doc. 01-2327 Filed 1-25-01; 8:45 am]

BILLING CODE 4140-01-M